DEPARTMENT OF COMMERCE

International Trade Administration

[A-201-830]

Carbon and Certain Alloy Steel Wire Rod From Mexico: Final Results of Antidumping Duty Administrative Review and Final Determination of No Shipments; 2015-2016

AGENCY: Enforcement and Compliance, International Trade Administration, Department of Commerce.

SUMMARY: The Department of Commerce (Commerce) finds that Deacero S.A.P.I. de C.V. (Deacero), a producer and exporter of carbon and certain alloy steel wire rod (wire rod) from Mexico, made sales of subject merchandise at less than normal value (NV) during the period of review (POR), October 1, 2015, through September 30, 2016. We also find that ArcelorMittal las Truchas, S.A. de C.V. (AMLT) made no shipments of subject merchandise during the POR.

DATES: Applicable April 17, 2018.

FOR FURTHER INFORMATION CONTACT: Keith Haynes, AD/CVD Operations, Office III, Enforcement and Compliance, International Trade Administration, U.S. Department of Commerce, 1401 Constitution Avenue NW, Washington, DC 20230; telephone: (202) 482-5139.

SUPPLEMENTARY INFORMATION:

Background

Commerce published the preliminary results of this administrative review of wire rod from Mexico on November 8, 2017.¹ We invited interested parties to comment on the Preliminary Results. On December 8, 2017, Commerce received timely filed case briefs from Deacero, and Nucor Corporation (Nucor).² On December 20, 2017, Commerce received timely filed rebuttal briefs from both Deacero and Nucor.

¹ See Carbon and Certain Alloy Steel Wire Rod from Mexico: Preliminary Results and Preliminary Determination of No Shipments; 2015-2016, 82 FR 51819 (November 8, 2017) (Preliminary Results).

² See Deacero's Case Brief, “Carbon and Certain Alloy Steel Wire Rod from Mexico—Case Brief,” dated December 8, 2017 (Deacero's Case Brief); the Nucor's Case Brief, “Carbon and Certain Alloy Steel Wire Rod from Mexico: Case Brief,” dated December 8, 2017 (Nucor's Case Brief).

Commerce has exercised its discretion to toll all deadlines affected by the duration of the closure of the Federal Government from January 20 through 22, 2018.³ Additionally, on February 27, 2018, Commerce postponed the final results of this review by 30 days until April 11, 2018.⁴

³ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding affected by the closure of the Federal Government have been extended by 3 days.

⁴ See Commerce Letter re: Carbon and Certain Alloy Steel Wire Rod from Mexico: Extension of Deadline for Final Results of Antidumping Duty Administrative Review; 2015-2016, dated February 27, 2018.

Based on an analysis of the comments received, Commerce has made changes to the calculated weighted-average dumping margin determined for Deacero. Commerce has listed the final calculated weighted-average dumping margin in the “Final Results of Administrative Review” section below.

Scope of the Order ⁵

⁵ For the full text of the scope of the order, see Memorandum, “Issues and Decision Memorandum for the Final Results of the 2015-2016 Antidumping Duty Administrative Review: Carbon and Certain Alloy Steel Wire Rod from Mexico,” dated concurrently with this determination and hereby adopted by this notice (Issues and Decision Memorandum).

The product covered by the order is wire rod, in coils, of approximately round cross section, 5.00 mm or more, but less than 19.00 mm, in solid cross-sectional diameter.⁶ The subject merchandise is currently classifiable under the Harmonized Tariff Schedule of the United States (HTSUS) subheadings: 7213.91.3000, 7213.91.3010, 7213.91.3011, 7213.91.3015, 7213.91.3020, 7213.91.3090, 7213.91.3091, 7213.91.3092, 7213.91.3093, 7213.91.4500, 7213.91.4510, 7213.91.4590, 7213.91.6000, 7213.91.6010, 7213.91.6090, 7213.99.0030, 7213.99.0031, 7213.99.0038, 7213.99.0090, 7227.20.0000, 7227.20.0010, 7227.20.0020, 7227.20.0030, 7227.20.0080, 7227.20.0090, 7227.20.0095, 7227.90.6010, 7227.90.6020, 7227.90.6030, 7227.90.6035, 7227.90.6050, 7227.90.6051, 7227.90.6053, 7227.90.6058, 7227.90.6059, 7227.90.6080, and 7227.90.6085. The HTSUS subheadings are provided for convenience and customs purposes only; the written product description remains dispositive.

⁶ On October 1, 2012, Commerce determined that Deacero's shipments to the United States of narrow gauge wire rod (4.75 mm to 5.00 mm) (narrow gauge wire rod) constitute merchandise altered in form or appearance in such minor respects that it should be included within the scope of the order on wire rod from Mexico. See Carbon and Certain Alloy Steel Wire Rod from Mexico: Affirmative Final Determination of Circumvention of the Antidumping Order, 77 FR 59892 (October 1, 2012) and accompanying Issues and Decision Memorandum. The U.S. Court of Appeals for the Federal Circuit upheld this determination. See Deacero S.A. de C.V. v. United States, 817 F.3d 1332, 1339 (Fed. Cir. 2016). Because there were no changes to the facts which supported that decision since that determination, we continue to find Deacero's narrow gauge wire rod (4.75 mm to 5.00 mm) subject merchandise.

Analysis of Comments Received

Commerce has addressed the issues raised by Deacero and Nucor in their case and rebuttal briefs in the Issues and Decision Memorandum. Commerce has identified and listed these issues in the Appendix to this notice. Because the Issues and Decision Memorandum is a public document, parties can find a complete discussion of these issues and the corresponding recommendations filed electronically via Enforcement and Compliance's Antidumping and Countervailing Duty Centralized Electronic Service System (ACCESS). ACCESS is available to registered users at https://access.trade.gov and in the Central Records Unit, room B8024 of the main Department of Commerce building. Additionally, parties can access a complete version of the Issues and Decision Memorandum directly on the internet at http://trade.gov/enforcement/frn/index.html. The signed Issues and Decision Memorandum and electronic versions of the Issues and Decision Memorandum are identical in content.

Changes Since the Preliminary Results

Based on the case brief and rebuttal comments received from Deacero and Nucor, we made changes to our rate calculation for Deacero. For a discussion of these issues, see the Issues and Decision Memorandum.

Final Determination of No Shipments

In the Preliminary Results, we preliminarily found that AMLT had no shipments during the POR.⁷ Because there has not been any contradictory information added to the record of this review since the Preliminary Results, based on record evidence, Commerce continues to find that AMLT did not ship subject merchandise during the POR. Accordingly, consistent with Commerce's practice, we intend to instruct U.S. Customs and Border Protection (CBP) to liquidate any existing entries of subject merchandise made during the POR that were produced by AMLT, but exported by other parties without their own rate, at the all-others rate effective during the POR.⁸

⁷ See Preliminary Results, 82 FR at 51819-20.

⁸ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010). See also Antidumping and Countervailing Duty Proceedings: Assessment of Antidumping Duties, 68 FR 23954 (May 6, 2003).

Final Results of Administrative Review

Commerce finds that the following estimated weighted-average dumping margin exists during the POR, as referenced below:

Producer/exporter | Weighted- average dumping margin (percent)
Deacero S.A.P.I. de C.V | 12.57

Assessment and Cash Deposit Requirements

In accordance with 19 CFR 351.212(b)(1), Commerce intends to issue appropriate instructions to CBP 41 days after publication of the final results of this review.⁹

⁹ See 19 CFR 356.8(a).

For Deacero, because its weighted-average dumping margin is not zero or de minimis (i.e., less than 0.5 percent), Commerce has calculated importer-specific antidumping duty assessment rates. We calculated importer-specific ad valorem antidumping duty assessment rates by aggregating the total amount of dumping calculated for the examined sales of each importer and dividing each of these amounts by the total entered value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

As noted in the “Final Determination of No Shipments” section, above, Commerce will instruct CBP to liquidate any existing entries of merchandise produced by AMLT but exported by other parties, at the rate for the intermediate reseller, if available, or at the all-others rate.

The following cash deposit requirements will be effective upon publication of the notice of final results of administrative review for all shipments of subject merchandise entered, or withdrawn from warehouse, for consumption on or after the publication of the final results of this administrative review, as provided by section 751(a)(2) of the Act: (1) The cash deposit rate for Deacero will be the rate established in the final results of this administrative review; (2) for merchandise exported by producers or exporters not covered in this administrative review but covered in a prior segment of the proceeding, the cash deposit rate will continue to be the company-specific rate published for the most recent period; (3) if the exporter is not a firm covered in this review, a prior review, or the original investigation, but the producer is, the cash deposit rate will be the rate established for the most recent period for the producer of the merchandise; and (4) the cash deposit rate for all other producer or exporters will continue to be 20.11 percent, the all-others rate established in the investigation.¹⁰ These cash deposit requirements, when imposed, shall remain in effect until further notice.

¹⁰ See Notice of Antidumping Duty Orders: Carbon and Certain Alloy Steel Wire Rod from Brazil, Indonesia, Mexico, Moldova, Trinidad and Tobago, and Ukraine, 67 FR 65945 (October 29, 2002).

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of doubled antidumping duties.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

These final results are issued and published in accordance with sections 751(a)(1) and 777(i)(1) of the Act.

Dated: April 11, 2018.
Gary Taverman,
Deputy Assistant Secretary for Antidumping and Countervailing Duty Operations, performing the non-exclusive functions and duties of the Assistant Secretary for Enforcement and Compliance.

Appendix—Issues and Decision Memorandum

I. Summary

II. Background

III. Scope of the Order

IV. Analysis of Comments

Comment 1: Whether Deacero's Reported Billet Cost Data Are Reliable

Comment 2: Whether to Cap Deacero's Freight Revenue by its Freight Cost

Comment 3: Whether to Rely on a Different Cost of Production (COP) Database

Comment 4: Treatment of Certain Mixed Currency Variables Within the Margin Program

Comment 5: Treatment of Certain Commissions Within the Margin Program

V. Recommendation

[FR Doc. 2018-07993 Filed 4-16-18; 8:45 am]

BILLING CODE 3510-DS-P